DEPARTMENT OF THE INTERIOR

Bureau of Land Management

[LLWY921000, L71220000.EU0000, LVTFK1999070, 20X, WYW165375]

Notice of Realty Action: Non-Competitive (Direct) Sale of Public Land in Big Horn County, Wyoming (Paint Rock)

AGENCY: Bureau of Land Management, Interior.

ACTION: Notice of realty action.

SUMMARY: The Bureau of Land Management (BLM) proposes a non-competitive (direct) sale of 58.54 acres of public land in Big Horn County, Wyoming, to Paint Rock Angus Ranch, Inc., for the purpose of resolving an inadvertent unauthorized use of public lands. The non-competitive, direct sale will be subject to the applicable provisions of the Federal Land Policy Management Act of 1976, as amended (FLPMA), and BLM regulations. The sale will be for no less than the appraised fair market value (FMV) of $40,000.

DATES: Submit written comments regarding the sale parcel and associated Environmental Assessment (EA) until March 30, 2020.

ADDRESSES: Mail written comments concerning this direct sale to Field Manager, BLM, Worland Field Office, 101 South 23rd Street, Worland, Wyoming 82401.

FOR FURTHER INFORMATION CONTACT: Connie Craft, Realty Specialist, BLM, Worland Field Office, at the above address, telephone: 307-347-5233, email: c75craft@blm.gov. Persons who use a telecommunications device for the deaf (TDD) may call the Federal Relay Service (FRS) at 1-800-877-8339. The FRS is available 24 hours a day, 7 days a week, to leave a message or question with Ms. Craft. You will receive a reply during normal business hours.

SUPPLEMENTARY INFORMATION: The following-described public land in Big Horn County, Wyoming, has been examined and found suitable for sale under the authority of Section 203 of the FLPMA:

Sixth Principal Meridian, Wyoming

T. 50 N., R. 90 W.,

Sec. 34, Parcel A;

Sec. 35, Parcel A.

The areas described aggregate 58.54 acres.

The sale is in conformance with the BLM Worland Approved Resource Management Plan (September 18, 2015), which identifies these parcels of public land as suitable for disposal on page 104 and management action 6009. FLPMA Section 203 allows for the disposal of public lands if they meet the following disposal criteria: “Such tract, because of its location or other characteristics, is difficult and uneconomic to manage as part of the public lands, and is not suitable for management by another Federal department or agency.” The subject parcels meet this criteria because the existing structures and the change in the character of the lands associated with agricultural ranching operations make the lands difficult to manage as public lands.

A parcel-specific EA, document numbered DOI-BLM-WY-R010-2019-0017-EA, was prepared in connection with this sale. A copy of the EA, Finding of No Significant Impact and Decision Record are available online at: https://go.usa.gov/xmQfd.

The parcels are not identified as access points for recreation in accordance with Secretary's Order 3373—Evaluating Public Access in Bureau of Land Management Public Land Disposals and Exchanges. There are no anticipated impacts from the BLM-managed public land disposal on recreational access to adjacent tracts of publicly accessible lands.

In accordance with 43 CFR 2710-0-6(c)(3)(iii) and 43 CFR 2711.3-3(a), a direct sale may be appropriate to resolve inadvertent, unauthorized use of the land or to protect existing equities in the land. In this case, a competitive sale is not appropriate because the subject lands contain improvements that directly support the adjoining ranch property, owned by Paint Rock Angus Ranch, Inc., rendering the land unusable by the public. The minimal acreage was considered to create a manageable boundary that included the lands needed to protect the existing irrigation improvements and resolve inadvertent unauthorized use. The public's interest is best served by resolving the inadvertent unauthorized use and receiving payment at FMV for the public lands.

Upon publication of this Notice in the Federal Register, the public lands described above will be segregated from all forms of appropriation under the public land laws, including the mining laws, except for the sale provisions of the FLPMA. The temporary segregation will terminate upon, (1) Issuance of a conveyance document, (2) Publication in the Federal Register terminating the segregation, or (3) On February 14, 2022, unless extended by the BLM Wyoming State Director, in accordance with 43 CFR 2711.1-2(d).

Upon publication of this Notice, the BLM will no longer accept land use applications affecting these public lands, except applications for the amendment of previously filed rights-of-way applications or existing authorizations to increase the term of the grants in accordance with 43 CFR 2807.15 and 43 CFR 2886.15.

The conveyance document, if issued, will be subject to the following terms, conditions, and reservations:

1. A rights-of-way thereon for ditches or canals constructed by the authority of the United States, Act of August 30, 1890 (43 U.S.C. 945);

2. All mineral deposits in the lands so conveyed and to it, or persons authorized by it, the right to prospect for, mine and remove such deposits from the same under applicable law and regulations to be established by the Secretary of the Interior, together with all necessary access and exit rights; and

3. All valid existing rights issued prior to conveyance.

The BLM will publish this Notice in the Basin Republican Rustler newspaper once each week for 3 consecutive weeks. Only written comments submitted by postal service or overnight mail will be considered as properly filed. Electronic mail, facsimile, or telephone comments will not be considered.

Any adverse comments regarding the sale will be reviewed by the BLM Wyoming State Director or other authorized official of the Department of the Interior, who may sustain, vacate, or modify this realty action in response to such comments. In the absence of any timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so. Comments, including names and street addresses of respondents, will be available for public review at the BLM Worland Field Office during regular business hours, except holidays.

(Authority: 43 CFR 2711)

Duane Spencer,
Acting State Director, Wyoming.

[FR Doc. 2020-03036 Filed 2-13-20; 8:45 am]

BILLING CODE 4310-22-P